DEPARTMENT OF LABOR

Employment and Training Administration

[TA-W-55,903]

Butternut Bakery, Div. of Interstate Bakeries Grand Rapids, MI; Notice of Termination of Investigation

Pursuant to Section 221 of the Trade Act of 1974, as amended, an investigation was initiated on November 2, 2004 in response to a worker petition on behalf of workers at Butternut Bakery, division of Interstate Bakeries, Grand Rapids, Michigan.

This worker group was the subject of a recent investigation, the result of which is a negative determination issued on October 28, 2004 (TA-W-55,745). The subject bakery has been closed since December, 2003 and hence there is no new information which would result in a reversal of the Department's recent determination. Consequently, further investigation would serve no purpose, and the investigation has been terminated.

Signed at Washington, DC this 18th day of November 2004.
Richard Church,
Certifying Officer, Division of Trade Adjustment Assistance.

[FR Doc. E4-3372 Filed 11-29-04; 8:45 am]

BILLING CODE 4510-30-P